DEPARTMENT OF ENERGY

Federal Energy Regulatory Commission

[Docket No. RP00-625-001]

Canyon Creek Compressions Company; Notice of Compliance Filing

December 7, 2000.

Take notice that on December 4, 2000, Canyon Creek Compression Company (Canyon) tendered for filing to be a part of its FERC Gas Tariff, Third Revised Volume No. 1, Second Revised Sheet No. 127, to be effective on January 1, 2001.

Canyon states that this tariff sheet is being filed in compliance with the Commission's “Order on Filing to Establish Imbalance Netting and Trading Pursuant to Order Nos. 587-G and 587-L,” issued October 27, 2000, in Docket No. RP00-625-000.

Canyon requested any waivers which may be required for the tendered tariff sheet to become effective January 1, 2001.

Canyon states that copies of the filing have been mailed to all parties set out on the Commission's official service list in Docket No. RP00-625.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31833 Filed 12-13-00; 8:45 am]

BILLING CODE 6717-01-M